DEPARTMENT OF TRANSPORTATION

Surface Transportation Board

[STB Finance Docket No. 34265]

Blackwell & Northern Railway Company, Inc.—Operation Exemption—Oklahoma Department of Transportation and Blackwell Industrial Authority

Blackwell & Northern Railway Company, Inc. (BNRC), a noncarrier, has filed a verified notice of exemption under 49 CFR 1150.31 to operate 35.26 miles of rail line owned by the State of Oklahoma by and through the Oklahoma Department of Transportation and Blackwell Industries Authority. The rail line extends: (1) Between milepost 34.3 at Blackwell, OK, and milepost 18+1712.9 feet at the Oklahoma/Kansas State line near Hun Newell, KS; (2) between milepost 35+1848 feet, west of Blackwell and milepost 34.3 at Blackwell; and (3) between milepost 18+1712.9 feet at the Oklahoma/Kansas State line near Hun Newell and milepost 0+466.3 feet, at Wellington, KS. BNRC will replace South Kansas and Oklahoma Railroad, Inc., which has been operating over the line, and will become a Class III rail carrier.¹ BNRC certifies that its projected revenues as a result of this transaction will not exceed those that would qualify it as a Class III carrier and that such revenues would not exceed $5 million.

¹ See South Kansas and Oklahoma Railroad, Inc.-Operation Exemption-Oklahoma Department of Transportation and Blackwell Industrial Authority, STB Docket No. 33494 (STB served Oct. 31, 1997).

The transaction was scheduled to be consummated no earlier than October 17, 2002, the effective date of the exemption (7 days after the exemption was filed).

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34265, must be filed with the Surface Transportation Board, 1925 K Street, NW., Washington, DC 20423-0001. In addition, one copy of each pleading must be served on Thomas F. McFarland, Thomas F. McFarland, P.C., 208 South LaSalle Street, Suite 1890, Chicago, IL 60604-1194.

Board decisions and notices are available on our Web site at http://www.stb.dot.gov.

Decided: October 28, 2002.
By the Board, David M. Konschnik, Director, Office of Proceedings.
Vernon A. Williams,
Secretary.

[FR Doc. 02-27881 Filed 11-4-02; 8:45 am]

BILLING CODE 4915-00-P